DEPARTMENT OF ENERGY

Federal Energy Regulatory Commission

[Docket Nos. ER08-1113-004; ER08-1113-005]

California Independent System Operator Corporation; Supplemental Notice of Technical Conference

August 14, 2009.

On July 29, 2009, the Commission issued an order establishing technical conference in the above-captioned proceedings to explore issues concerning Market Efficiency Enhancement Agreements (MEEA) between the California Independent System Operator Corporation (CAISO) and eligible market participants. The technical conference will be held on Thursday, August 20, 2009, at 10 a.m. (EDT), in Hearing Room 7 at the offices of the Federal Energy Regulatory Commission, 888 First Street, NE., Washington, DC 20426 and ending at approximately 4 p.m. (EDT). The following additional information and instruction is provided regarding the conference.

The technical conference will afford Commission staff and interested parties an opportunity to discuss the issues related to the MEEAs. The conference is intended to be a working session focused on discussing the information necessary to execute a MEEA and the transactions under a MEEA that should receive MEEA pricing. The July 29, 2009 order outlined the issues to be discussed.

The technical conference will be open to the public. Although staff encourages all interested parties to attend in person, the conference will be accessible via telephone on a listen-only basis. For information regarding telephone access to the conference, please e-mail Sarah.McKinley@ferc.gov no later than 5 p.m. (EDT) on Tuesday, August 18, 2009. You will then receive a confirmation e-mail containing the dial-in number and password. Staff requests that, to the extent possible, individuals calling from the same location share a single telephone line.

The conference will not be transcribed, and all interested persons will be afforded the opportunity to file post-conference comments. Dates for filing such comments will be established at the technical conference. Also, representatives from the Commission's Dispute Resolution Services office will be available to offer assistance to the parties to the extent they seek to pursue settlement negotiations.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For further information about this conference, please contact: Sarah McKinley, 202-502-8368, Sarah.McKinley@ferc.gov, for logistical issues and either Kendra Pace at 202-502-6703 or e-mail Kendra.Pace@ferc.gov or Christopher Demko at 202-502-6519 or e-mail Christopher.Demko@ferc.gov for other concerns.

Kimberly D. Bose,
Secretary.

[FR Doc. E9-20214 Filed 8-21-09; 8:45 am]

BILLING CODE 6717-01-P